DEPARTMENT OF HEALTH AND HUMAN SERVICES

Centers for Disease Control and Prevention

Statement of Organization, Functions, and Delegations of Authority

Part C (Centers for Disease Control and Prevention) of the Statement of Organization, Functions, and Delegations of Authority of the Department of Health and Human Services (45 FR 67772-76, dated October 14, 1980, and corrected at 45 FR 69296, October 20, 1980, as amended most recently at 71 FR 6777, dated February 9, 2006) is amended to reflect the title change for the Division of Policy Analysis and Coordination, Office of Enterprise Communication, Office of the Director, Centers for Disease Control and Prevention.

Section C-B, Organization and Functions, is hereby amended as follows:

Delete in its entirety the title for the Division of Policy Analysis and Coordination (CAUB) and insert the Division of Issues Management and Executive Secretariat (CAUB).

Dated: April 4, 2006.
William H. Gimson,
Chief Operating Officer, Centers for Disease Control and Prevention (CDC).

[FR Doc. 06-3749 Filed 4-19-06; 8:45 am]

BILLING CODE 4160-18-M